DEPARTMENT OF THE INTERIOR

National Park Service

Notice of Inventory Completion for Native American Human Remains and Associated Funerary Objects in the Control of the U.S. Department of the Interior, Bureau of Land Management, New Mexico State Office, Santa Fe, NM

AGENCY: National Park Service, Interior.

ACTION: Notice.

Notice is hereby given in accordance with provisions of the Native American Graves Protection and Repatriation Act (NAGPRA), 43 CFR 10.9, of the completion of an inventory of human remains and associated funerary objects in the control of the U.S. Department of the Interior, Bureau of Land Management, New Mexico State Office, Santa Fe, NM.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Colorado Museum, Eastern New Mexico University, the Maxwell Museum of Anthropology (University of New Mexico), the New Mexico State University Museum, the Museum of New Mexico, the San Juan County Museum, and Bureau of Land Management professional staff in consultation with representatives of the Hopi Tribe of Arizona; the Navajo Nation, Arizona, New Mexico, and Utah; the Pueblo of Acoma, New Mexico; the Pueblo of Jemez, New Mexico; the Pueblo of Isleta, New Mexico; the Pueblo of San Ildefonso, New Mexico; the Pueblo of Zia, New Mexico; and the Zuni Tribe of the Zuni Reservation.

In 1915, human remains representing three individuals were recovered from two archeological sites in Gobernador Canyon and Adams Canyon in northwestern New Mexico during legally-authorized excavations and collections by Earl Morris of the University of Colorado and the American Museum of Natural History. These human remains are presently curated at the University of Colorado Museum. No known individuals were identified. No associated funerary objects are present.

Based on material culture, architecture, and site organization, the Gobernador Canyon site and the Adams Canyon site have been identified as a Navajo pueblito and hogans occupied between C.E. 1500-1750.

In 1941, human remains representing one individual were recovered from site LA 11171 in New Mexico during legally-authorized excavations and collections by E.T. Hall of Columbia University. These human remains are presently curated by the Museum of New Mexico. No known individual was identified. The 13 associated funerary objects are pottery sherds and chipped stone.

Based on material culture, site LA 11171 has been identified as an 18th century Navajo burial.

During 1959-1965, human remains representing one individual were recovered from site LA 54175 in New Mexico during legally authorized excavations and collections by the Museum of New Mexico as part of the Navajo Reservoir Project. These human remains are presently curated by the Museum of New Mexico. No known individual was identified. No associated funerary objects are present.

Based on material culture, site LA 54175 has been identified as a cave with an historic-period Navajo utilization.

Continuities of ethnographic materials, technology, and architecture indicate affiliation of the four sites listed above with the historic and present-day Navajo Nation. Oral traditions presented by representatives of the Navajo Nation, Arizona, New Mexico, and Utah support cultural affiliation with these four sites in New Mexico.

Based on the above-mentioned information, officials of the New Mexico State Office of the Bureau of Land Management have determined that, pursuant to 43 CFR 10.2 (d)(1), the human remains listed above represent the physical remains of a minimum of five individuals of Native American ancestry. Officials of the New Mexico State Office of the Bureau of Land Management also have determined that, pursuant to 43 CFR 10.2 (d)(2), the 13 objects listed above are reasonably believed to have been placed with or near individual human remains at the time of death or later as part of the death rite or ceremony. Lastly, officials of the New Mexico State Office of the Bureau of Land Management have determined that, pursuant to 43 CFR 10.2 (e), there is a relationship of shared group identity that can be reasonably traced between these Native American human remains and associated funerary objects and the Navajo Nation, Arizona, New Mexico and Utah. This notice has been sent to officials of the Hopi Tribe of Arizona; the Navajo Nation, Arizona, New Mexico, and Utah; the Pueblo of Acoma, New Mexico; the Pueblo of Jemez, New Mexico; the Pueblo of Isleta, New Mexico; the Pueblo of San Ildefonso, New Mexico; the Pueblo of Zia, New Mexico; and the Zuni Tribe of the Zuni Reservation. Representatives of any other Indian tribe that believes itself to be culturally affiliated with these human remains and associated funerary objects should contact Stephen L. Fosberg, State Archeologist and NAGPRA Coordinator, New Mexico State Office, Bureau of Land Management, 1474 Rodeo Road, Santa Fe, NM 87502-0115, telephone (505) 438-7415, before May 2, 2001. Repatriation of the human remains and associated funerary objects to the Navajo Nation, Arizona, New Mexico, and Utah may begin after that date if no additional claimants come forward.

Dated: March 16, 2001.
John Robbins,
Assistant Director, Cultural Resources Stewardship and Partnerships.

[FR Doc. 01-7981 Filed 3-30-01; 8:45 am]

BILLING CODE 4310-70-F